DEPARTMENT OF HEALTH AND HUMAN SERVICES

Health Resources and Services Administration

Agency Information Collection Activities: Submission to OMB for Review and Approval; Public Comment Request

AGENCY: Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received no later than August 10, 2015.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 594-4306.

SUPPLEMENTARY INFORMATION: Information Collection Request Title: Maternal, Infant, and Early Childhood Home Visiting (Home Visiting) Program, Competitive Funding Opportunity Announcement OMB No. 0915-0351—Extension.

Abstract: The Home Visiting Program, administered by the Health Resources and Services Administration (HRSA) in close partnership with the Administration for Children and Families (ACF), supports voluntary, evidence-based home visiting services during pregnancy and to parents with young children up to kindergarten entry. The 50 states, District of Columbia, and 5 territories and eligible nonprofit organizations are eligible for Home Visiting Competitive Funding.

Need and Proposed Use of the Information: The purpose of this announcement is to solicit Fiscal Year 2016 (FY16) applications for the Home Visiting Competitive Grant program. Competitive Grants provide funds to eligible entities that are states and certain territories that continue to make significant progress toward implementing a high-quality home visiting program as part of a comprehensive, high-quality early childhood system and are ready and able to take effective programs to scale to address unmet need. This information collection is needed for eligible entities to apply for competitive funding opportunities under the MIECHV. As noted above, this program is authorized under the Social Security Act, Title V, Section 511 (42 U.S.C. 701), as amended by Section 2951 of the Patient Protection and Affordable Care Act of 2010 (Pub. L. 111-148). A portion of funding under this program is awarded to participating states and eligible jurisdictions ¹ by formula. However, an additional portion of funds is awarded competitively.

¹ The 50 states, the U.S. Virgin Islands, Puerto Rico, American Samoa, the Northern Marianas, District of Columbia, and Guam.

The information collected will be used to collect applicant information regarding proposed project plans sufficient to inform peer review and subsequent grant award and monitoring. Peer reviewers will be selected from among experts in the relevant fields to assess and score applicant proposals. On the basis of reviewer scores, applications will be ranked, and the highest scoring applications will be funded according to availability of funds. Applications approved for funding are entered into HRSA's Electronic Handbook (EHB).

Subsequent to award, the approved plans set forth in the applications in the EHB will be monitored by Federal Project Officers to ensure implementation according to these plans, as submitted in this data collection instrument. Failure to collect this information would result in either a failure to make awards to eligible entities as required by law, or would necessitate award of all funds by formula, which is inconsistent with established program policy and implementation, as competitive awards have been made a part of this program's administration.

Likely Respondents: Applicants to FY16 Home Visiting Competitive Funding Opportunity Announcement.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Summary of progress on the following activities | Number of respondents | Number of responses per respondent | Total responses | Hours per response | Total burden hours
Introduction | 47 | 1 | 47 | 10 | 470
Needs Assessment | 47 | 1 | 47 | 14 | 658
Methodology | 47 | 1 | 47 | 15 | 705
Work Plan | 47 | 1 | 47 | 15 | 705
Resolution of Challenges | 47 | 1 | 47 | 14 | 658
Evaluation and Technical Support | 47 | 1 | 47 | 48 | 2256
Organizational Information | 47 | 1 | 47 | 10 | 470
Additional Attachments | 47 | 1 | 47 | 13 | 611
Total | 47 | 8 | 376 | 139 | 6533

Jackie Painter,
Director, Division of the Executive Secretariat.

[FR Doc. 2015-16735 Filed 7-8-15; 8:45 am]

BILLING CODE 4165-15-P